OFFICE OF THE UNITED STATES TRADE REPRESENTATIVE

Notice of Meeting of the Industry Sector Advisory Committee on Services (ISAC-13)

AGENCY: Office of the United States Trade Representative.

ACTION: Notice of an partially opened meeting.

SUMMARY: The Industry Sector Advisory Committee on Services (ISAC-13) will hold a meeting on July 22, 2003, from 1:30 p.m. to 4:30 p.m. The meeting will be closed to the public from 2:15 p.m. to 4:30 p.m. and opened to the public from 1:30 p.m. to 2:15 p.m.

DATES: The meeting is scheduled for July 22, 2003, unless otherwise notified.

ADDRESSES: The meeting will be held at the Ronald Reagan Bldg., USA Trade Center, Training Room A.

FOR FURTHER INFORMATION CONTACT: Jennifer Moll, DFO for ISAC-13 at (202) 482-1316, Department of Commerce, 14th Street and Constitution Avenue, NW., Washington, DC 20230 or Christina Sevilla, Director for Intergovernmental Affairs, on (202) 395-6120.

SUPPLEMENTARY INFORMATION: During the opened portion of the meeting the following agenda item will be discussed.

• Discussion on the International Trade Commission's Recently Released Report: “Recent Trends in U.S. Services Trade”.

• Report on General Agreement on Trade in Services (GATS) Negotiations.

• Report on Iraq Reconstruction and Related Business Opportunities.

Christopher A. Padilla,
Assistant U.S. Trade Representative for Intergovernmental Affairs and Public Liaison.

[FR Doc. 03-17590 Filed 7-10-03; 8:45 am]

BILLING CODE 3190-01-M